DEPARTMENT OF COMMERCE

International Trade Administration

[A-570-899]

Certain Artist Canvas From the People's Republic of China: Final Results of the Expedited Second Sunset Review of the Antidumping Duty Order

AGENCY: Enforcement and Compliance, International Trade Administration, Department of Commerce.

SUMMARY: As a result of this sunset review, the Department of Commerce (“Department”) finds that revocation of the antidumping duty (“AD”) order on certain artist canvas from the People's Republic of China would be likely to lead to the continuation or recurrence of dumping at the dumping margins identified in the “Final Results of Review” section of this notice.

DATES: Effective March 1, 2017.

FOR FURTHER INFORMATION CONTACT: Paul Stolz; AD/CVD Operations, Office III, Enforcement and Compliance, International Trade Administration, U.S. Department of Commerce, 1401 Constitution Avenue NW., Washington, DC 20230; telephone: 202-482-4474.

SUPPLEMENTARY INFORMATION:

Background

On October 3, 2016, the Department published the notice of initiation of the second sunset review of the AD Order ¹ on certain artist canvas from the People's Republic of China (“PRC”) pursuant to section 751(c) of the Tariff Act of 1930, as amended (“the Act”). On October 17, 2016, Tara Materials, Inc., (“Tara Materials”),² BF Inkjet Digital Inc., IJ Technologies, Inc. and Permalite Inc. (“Domestic Interested Parties”), notified the Department that they intended to participate in the sunset review. On November 2, 2016, the Domestic Interested Parties submitted a substantive response. The Department did not receive a substantive response from any respondent party. Based on the notice of intent to participate and adequate response filed by the Domestic Interested Parties, and the lack of response from any respondent interested party, the Department conducted an expedited sunset review of the Order pursuant to section 751(c)(3)(B) of the Act and 19 CFR 351.218(e)(1)(ii)(C)(2).

¹ See Initiation of Five-Year (“Sunset”) Review, 81 FR 67967 (October 3, 2016) (“Sunset Initiation”); see also Notice of Antidumping Duty Order: Certain Artist Canvas from the People's Republic of China, 71 FR 31154 (June 1, 2006) (“Order”).

² Tara Materials was the Petitioner in the underlying investigation.

Scope of the Order

The products covered by the order are artist canvases regardless of dimension and/or size, whether assembled or unassembled, that have been primed/coated, whether or not made from cotton, whether or not archival, whether bleached or unbleached, and whether or not containing an ink receptive top coat. Priming/coating includes the application of a solution, designed to promote the adherence of artist materials, such as paint or ink, to the fabric. Artist canvases (i.e., pre-stretched canvases, canvas panels, canvas pads, canvas rolls (including bulk rolls that have been primed), printable canvases, floor cloths, and placemats) are tightly woven prepared painting and/or printing surfaces. Artist canvas and stretcher strips (whether or not made of wood and whether or not assembled) included within a kit or set are covered by the order.

Artist canvases subject to the order are currently classifiable under subheadings 5901.90.20.00, 5901.90.40.00, 5903.90.2500, 5903.90.2000, 5903.90.1000, 5907.00.8090, 5907.00.8010, and 5907.00.6000 of the Harmonized Tariff Schedule of the United States (“HTSUS”). Specifically excluded from the scope of the order are tracing cloths, “paint-by-number” or “paint-it-yourself” artist canvases with a copyrighted preprinted outline, pattern, or design, whether or not included in a painting set or kit.³ Also excluded are stretcher strips, whether or not made from wood, so long as they are not incorporated into artist canvases or sold as part of an artist canvas kit or set. While the HTSUS subheadings are provided for convenience and customs purposes, our written description of the scope of the order is dispositive.

³ Artist canvases with a non-copyrighted preprinted outline, pattern, or design are included in the scope, whether or not included in a painting set or kit.

Analysis of Comments Received

A complete discussion of all issues raised in this sunset review is addressed in the accompanying Issues and Decision Memorandum, which is hereby adopted by this notice.⁴ The issues discussed in the accompanying I&D Memo include the likelihood of continuation or recurrence of dumping and the magnitude of the dumping margin likely to prevail if the Order is revoked. The I&D Memo is a public document and is on file electronically via Enforcement and Compliance's Antidumping and Countervailing Duty Centralized Electronic Service System (“ACCESS”). ACCESS is available to registered users at https://access.trade.gov and to all parties in the Central Records Unit, room B8024 of the main Department of Commerce building. In addition, a complete version of the Issues and Decision Memorandum can be accessed at http://enforcement.trade.gov/frn/. The signed Issues and Decision Memorandum and the electronic version of the Issues and Decision Memorandum are identical in content.

⁴ See the Department's memorandum entitled, “Issues and Decision Memorandum for the Final Results of the Expedited Second Sunset Review of the Antidumping Duty Order on Certain Artist Canvas from the People's Republic of China,” dated concurrently with this notice (“I&D Memo”).

Final Results of Sunset Review

Pursuant to section 751(c) of the Act, the Department determines that revocation of the Order on certain artist canvas would likely lead to continuation or recurrence of dumping and that the magnitude of the margins of dumping likely to prevail is up to 264.09 percent.

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: January 24, 2017.
Ronald K. Lorentzen,
Acting Assistant Secretary for Enforcement and Compliance.

[FR Doc. 2017-01951 Filed 1-27-17; 8:45 am]

BILLING CODE 3510-DS-P